NATIONAL AERONAUTICS AND SPACE ADMINISTRATION

[14-065]

Government-Owned Inventions, Available for Licensing

AGENCY: National Aeronautics and Space Administration.

ACTION: Notice of availability of inventions for licensing.

SUMMARY: Patent applications on the inventions listed below assigned to the National Aeronautics and Space Administration, have been filed in the United States Patent and Trademark Office, and are available for licensing.

DATES: July 3, 2014.

FOR FURTHER INFORMATION CONTACT: James J. McGroary, Patent Counsel, Marshall Space Flight Center, Mail Code LS01, Huntsville, AL 35812; telephone (256) 544-0013; fax (256) 544-0258.

NASA Case No.: MFS-33007-1: Carbon Nanotube Tape Vibrating Gyroscope;

NASA Case No.: MFS-33022-1: Propellant Feed System for Swirl-Coaxial Injection;

NASA Case No.: MFS-32903-1-CIP: Fluid Harmonic Absorber;

NASA Case No.: MFS-32853-1: Vibration Damping Circuit Card Assembly;

NASA Case No.: MFS-32954-1: Method of Heat Treating Aluminum-Lithium Alloy to Improve Formability;

NASA Case No.: MFS-33061-1: Multi-Dimensional Flow Simulation Within a Fluid Network;

NASA Case No.: MFS-32986-1: Non-Explosively-Actuated Pressurization Start Valve;

NASA Case No.: MFS-33031-1: Rocket Thruster for Reducing Side Loads;

NASA Case No.: MFS-33054-1: Method of Enhancing On-Board State Estimation Using Communications Signals;

NASA Case No.: MFS-32945-1: Point Mechanic Piezoelectric Sensor System;

NASA Case No.: MFS-33060-1: Single-Axis Accelerometer.

Sumara M. Thompson-King,
Deputy General Counsel.

[FR Doc. 2014-15678 Filed 7-2-14; 8:45 am]

BILLING CODE 7510-13-P